ENVIRONMENTAL PROTECTION AGENCY

40 CFR Parts 52 and 81

[WI101-7332b; FRL-7206-6]

Approval and Promulgation of Implementation Plans; Wisconsin Designation of Areas for Air Quality Planning Purposes; Wisconsin

AGENCY: Environmental Protection Agency (EPA).

ACTION: Proposed rule.

SUMMARY: We are proposing to approve the State of Wisconsin's request to redesignate the villages of Rothschild and Weston and the Township of Rib Mountain, all located in central Marathon County, Wisconsin, from primary and secondary sulfur dioxide (SO2) nonattainment areas to attainment of the SO2 National Ambient Air Quality Standards (NAAQS). In conjunction with these actions, EPA is also proposing to approve the maintenance plan for the Rothschild-Rib Mountain-Weston nonattainment areas, which was submitted to ensure that attainment of the NAAQS will be maintained. Further, we are also proposing to incorporate into the Wisconsin SO2 State Implementation Plan consent orders for Weyerhaeuser Company and Wisconsin Public Service Corporation's Weston Plant. The Wisconsin Department of Natural Resources (WDNR) submitted the redesignation request and maintenance plan on November 17, 2000, and submitted the consent orders on October 17, 2001. The proposed actions are approvable because they satisfy the requirements of the Clean Air Act. In the final rules section of this Federal Register, we are approving these actions as a direct final rule without prior proposal, because we view this as a noncontroversial revision amendment and anticipate no adverse comments. A detailed rationale for the approval is set forth in the direct final rule. If we receive no adverse comments in response to the direct final rule, we contemplate no further activity in relation to this proposed rule. If we receive adverse comments on the direct final rule, we will withdraw the direct final rule, and we will address all public comments received in a subsequent final rule based on this proposed rule. We will not institute a second comment period on this action. Any parties interested in commenting on this action should do so at this time.

DATES: Written comments must be received on or before June 28, 2002.

ADDRESSES: Written comments should be sent to: Carlton T. Nash, Chief, Regulation Development Section, Air Programs Branch (AR-18J), EPA Region 5, 77 West Jackson Boulevard, Chicago, Illinois 60604-3590.

FOR FURTHER INFORMATION CONTACT: Christos Panos, Regulation Development Section, Air Programs Branch (AR-18J), EPA Region 5, 77 West Jackson Boulevard, Chicago, Illinois 60604, (312) 353-8328.

SUPPLEMENTARY INFORMATION: For additional information, see the Direct Final rule which is located in the Rules section of this Federal Register. Copies of the request and the EPA's analysis are available for inspection at the above address. (Please telephone Christos Panos at (312) 353-8328 before visiting the Region 5 Office.)

Dated: April 4, 2002.
David A. Ullrich,
Acting Regional Administrator, Region 5.

[FR Doc. 02-13113 Filed 5-28-02; 8:45 am]

BILLING CODE 6560-50-P